DEPARTMENT OF ENERGY

Federal Energy Regulatory Commission

[Project No. 2530-057]

Brookfield White Pine Hydro LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2530-057.

c. Date filed: November 20, 2020.

d. Applicant: Brookfield White Pine Hydro LLC (White Pine Hydro).

e. Name of Project: Hiram Hydroelectric Project.

f. Location: The existing project is located on the Saco River in the towns of Hiram, Baldwin, Brownfield, and Denmark within Oxford and Cumberland Counties, Maine. The project does not affect federal lands.

g. Filed Pursuant to: Federal Power Act 16 U.S.C. 791 (a)—825(r).

h. Applicant Contact: Luke Anderson, Licensing Manager, Brookfield White Pine Hydro LLC, 150 Main Street, Lewiston, ME 04240; Telephone (207) 755-5600.

i. FERC Contact: Dianne Rodman, (202) 502-6077 or dianne.rodman@ferc.gov.

j. Deadline for filing motions to intervene and protests, comments, recommendations, preliminary terms and conditions, and preliminary prescriptions: 60 days from the issuance date of this notice; reply comments are due 105 days from the issuance date of this notice.

The Commission strongly encourages electronic filing. Please file using the Commission's eFiling system at https://ferconline.ferc.gov/FERCOnline.aspx. Commenters can submit brief comments up to 6,000 characters, without prior registration, using the eComment system at https://ferconline.ferc.gov/QuickComment. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2530-057.

Intervenors—those on the Commission's service list for this proceeding—are reminded that if they file comments with the Commission, they must also serve a copy of their filing on each person whose name appears on the official service list. Note that the list is periodically updated. The official service list can be obtained on the Commission's website (https://www.ferc.gov)—click on Documents and Filing and click on eService—or call the Office of the Secretary, Dockets Branch at (202) 502-8715. In addition, if any party files comments or documents with the Commission relating to the merits of an issue that may affect the responsibilities of a particular resource agency, they must also serve a copy of the document on the resource agency.

k. This application has been accepted for filing and is now ready for environmental analysis.

The Council on Environmental Quality (CEQ) issued a final rule on July 15, 2020, revising the regulations under 40 CFR parts 1500—1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Hiram Project. Commission staff intends to conduct its NEPA review in accordance with CEQ's new regulations.

l. The existing Hiram Project consists of a 255-acre, 7.5-mile-long impoundment at normal full pond elevation 349.0 feet; a 448-foot-long dam located at the top of Great Falls fitted with an inflatable dam across the spillway crest; an intake that is integral to the dam; a 320-foot-long, 15.5-foot-diameter penstock that bifurcates to one 170-foot-long by 10-foot-wide penstock (to Unit 1), and one 80-foot-long by 15.5-foot-diameter penstock (to Unit 2); a powerhouse containing two turbine-generator units, Unit 1 rated at 2.4 megawatts (MW) and Unit 2 at 8.1 MW, for a total installed capacity of 10.5 MW; and appurtenant facilities. The project's transmission facilities include: (1) Generator leads; (2) a substation located adjacent to, and north of, the powerhouse; and (3) a transmission circuit connecting the substation to a non-project switching station. The project generates an annual average of 45,142 megawatt-hours.

White Pine Hydro proposes to continue to: Operate the project in a run-of-river mode from October 1 through November 15, with head pond drawdowns limited to 1 foot or less from the full pond elevation, or from the spillway crest when the inflatable dam is down. From November 16 through September 30, White Pine Hydro proposes to continue to cycle daily operations whereby it would turn on and off its generating units when inflow is sufficient to meet load demands, resulting in drawdown of the head pond by up to 2 feet from the full pond elevation during normal project operation, or from the spillway crest when the inflatable dam is down. During this period, White Pine Hydro would continue to provide a minimum flow of 300 cubic feet per second (cfs), of inflow, whichever is less below the powerhouse.

White Pine Hydro proposes to remove from the current project boundary 152 acres of land and 25 acres of water.

m. A copy of the application can be viewed on the Commission's website at https://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following schedule. Revisions to the schedule may be made as appropriate.

Milestone | Target date
Deadline for filing comments, recommendations, preliminary terms and conditions, and preliminary fishway prescriptions | March 2021
Deadline for Filing Reply Comments | April 2021

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification. Please note that the certification request must be sent to the certifying authority and to the Commission concurrently.

Dated: January 11, 2021.
Nathaniel J. Davis, Sr.,
Deputy Secretary.

[FR Doc. 2021-00858 Filed 1-14-21; 8:45 am]

BILLING CODE 6717-01-P